DEPARTMENT OF ENERGY

Federal Energy Regulatory Commission

[Docket No. EL04-90-002]

Reliant Energy Services, Inc.; Notice of Filing

September 27, 2005.

Take notice that on September 15, 2005, Reliant Energy Services, Inc., Reliant Energy Power Generation, LLC and Reliant Energy Wholesale Generation, LLC (Reliant), Nevada Power Company, submitted a petition for expedited approval of a settlement agreement pursuant to Rule 207(a)(5) of the Commission's Rules of Practice and Procedure.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 5, 2005.

Magalie R. Salas,
Secretary.

[FR Doc. E5-5395 Filed 9-30-05; 8:45 am]

BILLING CODE 6717-01-P